DEPARTMENT OF TRANSPORTATION

Federal Aviation Administration

14 CFR Part 39

[Docket No. FAA-2006-26356; Directorate Identifier 2006-NM-166-AD]

RIN 2120-AA64

Airworthiness Directives; Empresa Brasileira de Aeronautica S.A. (EMBRAER) Model ERJ 170 and ERJ 190 Airplanes

AGENCY: Federal Aviation Administration (FAA), Department of Transportation (DOT).

ACTION: Notice of proposed rulemaking (NPRM).

SUMMARY: The FAA proposes to adopt a new airworthiness directive (AD) for all EMBRAER Model ERJ 170 and ERJ 190 airplanes. This proposed AD would require repetitive detailed inspections for blockage of the pitot drain holes of certain air data smart probes (ADSPs), removing accumulated moisture from the pneumatic passages of the ADSPs, related investigative actions, and corrective actions if necessary. This proposed AD results from reports of erroneous air speed indications caused by blockage of the pitot sensors due to freezing of accumulated moisture in the ADSP pneumatic passages. We are proposing this AD to prevent an erroneous air speed indication, which could reduce flightcrew ability to control the airplane.

DATES: We must receive comments on this proposed AD by December 20, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Empresa Brasileira de Aeronautica S.A. (EMBRAER), P.O. Box 343-CEP 12.225, Sao Jose dos Campos-SP, Brazil, for service information identified in this proposed AD.

FOR FURTHER INFORMATION CONTACT: Todd Thompson, Aerospace Engineer, International Branch, ANM-116, FAA, Transport Airplane Directorate, 1601 Lind Avenue, SW., Renton, Washington 98057-3356; telephone (425) 227-1175; fax (425) 227-1149.

SUPPLEMENTARY INFORMATION:

Comments Invited

We invite you to submit any relevant written data, views, or arguments regarding this proposed AD. Send your comments to an address listed in the ADDRESSES section. Include the docket number “FAA-2006-26356; Directorate Identifier 2006-NM-166-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Agência Nacional de Aviação Civil (ANAC), which is the airworthiness authority for Brazil, notified us that an unsafe condition may exist on EMBRAER Model ERJ 170 airplanes and Model ERJ 190 airplanes equipped with Rosemount Aerospace Model 2015G2H2H air data smart probes (ADSPs) having part number (P/N) 2015G2H2H-4( ), 2015G2H2H-5( ), 2015G2H2H-6( ), or 2015G2H2H-7( ). The ANAC advises that reports have been received of erroneous air speed indications caused by blockage of the sensors of the ADSP, due to freezing of accumulated moisture in the pneumatic passages between the ADSP pressure ports and sensors. This condition, if not corrected, could result in an erroneous air speed indication, which could reduce flightcrew ability to control the airplane.

Relevant Service Information

EMBRAER has issued Service Bulletin 170-34-0007, dated April 28, 2005 (for Model ERJ 170 airplanes), and Service Bulletin 190-34-0003, dated December 2, 2005 (for Model ERJ 190 airplanes). The service bulletins describe procedures for repetitive detailed inspections for blockage of the pitot drain holes of certain air data smart probes (ADSPs), removing accumulated moisture from the pneumatic passages of the ADSPs, related investigative actions, and corrective actions if necessary. Related investigative actions include inspecting for damage to the ADSP seal gaskets, and verifying proper gap and step distance between the access panel/fuselage and between the access panel/base of the ADSP. Corrective actions include replacing any damaged seal gaskets with new gasket material and adjusting any gap and step discrepancies.

Accomplishing the actions specified in the service information is intended to adequately address the unsafe condition.

The ANAC mandated the service information and issued Brazilian airworthiness directives 2006-05-05, effective June 14, 2006, and 2006-05-08, effective June 19, 2006, to ensure the continued airworthiness of these airplanes in Brazil.

EMBRAER Service Bulletins 170-34-0007 and 190-34-0003 also refer to Rosemount Aerospace Service Bulletin 2015G2H2H-34-04, Revision 1, dated April 6, 2005, as an additional source of service information for accomplishing the requirements of the proposed AD.

FAA's Determination and Requirements of the Proposed AD

These airplane models are manufactured in Brazil and are type certificated for operation in the United States under the provisions of section 21.29 of the Federal Aviation Regulations (14 CFR 21.29) and the applicable bilateral airworthiness agreement. Pursuant to this bilateral airworthiness agreement, the ANAC has kept the FAA informed of the situation described above. We have examined the ANAC's findings, evaluated all pertinent information, and determined that we need to issue an AD for airplanes of this type design that are certificated for operation in the United States.

Therefore, we are proposing this AD, which would require accomplishing the actions specified in the service information described previously, except as discussed under “Difference Between the Proposed AD and Service Bulletins.”

Difference Between the Proposed AD and Service Bulletins

The service bulletins specify an inspection; however, this proposed AD would require a detailed inspection, which conforms to the Brazilian airworthiness directives. Note 3 of the proposed AD defines this type of inspection.

Costs of Compliance

This proposed AD would affect about 93 airplanes of U.S. registry. The proposed actions would take about 2 work hours per airplane, at an average labor rate of $80 per work hour. Based on these figures, the estimated cost of the proposed AD for U.S. operators is $14,880, or $160 per airplane, per inspection cycle.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Empresa Brasileira de Aeronautica S.A. (EMBRAER): Docket No. FAA-2006-26356; Directorate Identifier 2006-NM-166-AD.

Comments Due Date

(a) The FAA must receive comments on this AD action by December 20, 2006.

Affected ADs

(b) None.

Applicability

(c) This AD applies to all EMBRAER Model ERJ 170-100 LR, -100 STD, -100 SE, -100 SU, -200 LR, -200 STD, and -200 SU airplanes, and Model ERJ 190-100 STD, -100 LR, and -100 IGW airplanes; certificated in any category.

Unsafe Condition

(d) This AD results from reports of erroneous air speed indications caused by blockage of the pitot sensors due to freezing of accumulated moisture in the air data smart probes (ADSP) pneumatic passages. We are issuing this AD to prevent an erroneous air speed indication, which could reduce flightcrew ability to control the airplane.

Compliance

(e) You are responsible for having the actions required by this AD performed within the compliance times specified, unless the actions have already been done.

Inspect To Determine Part Number (P/N) of ADSPs

(f) Within 600 flight hours after the effective date of this AD, inspect to determine the part number of the ADSPs. For any Rosemount Aerospace ADSP having P/N 2015G2H2H-4( ), 2015G2H2H-5( ), 2015G2H2H-6( ), or 2015G2H2H-7 ( ), do the applicable actions required by this AD. For any ADSP having any other part number, no further action is required by this AD.

Note 1: The parentheses used in the identified ADSP model part numbers indicate the presence or absence of an additional letter(s), which varies with the basic ADSP model designation. The letter(s) defines minor changes that do not affect interchangeability or eligibility of the ADSP. Therefore, this AD still applies regardless of the presence or absence of these letters on the ADSP model designation.

Detailed Inspection, Moisture Removal, and Related Investigative/Corrective Actions

(g) Within 600 flight hours after the effective date of this AD, perform a detailed inspection for blockage of the pitot drain holes of the ADSP, remove accumulated moisture from the pneumatic passages of the ADSP, and, before further flight, do all related investigative actions and applicable corrective actions. Perform all required actions in accordance with the Accomplishment Instructions of EMBRAER Service Bulletin 170-34-0007, dated April 28, 2005 (for Model ERJ 170 airplanes), or EMBRAER Service Bulletin 190-34-0003, dated December 2, 2005 (for Model ERJ 190 airplanes), as applicable. Repeat all required actions thereafter at intervals not to exceed 600 flight hours.

Note 2: EMBRAER Service Bulletins 170-34-0007 and 190-34-0003 refer to Rosemount Aerospace Service Bulletin 2015G2H2H-34-04, Revision 1, dated April 6, 2005, as an additional source of service information for accomplishing the required actions.

Note 3: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Alternative Methods of Compliance (AMOCs)

(h)(1) The Manager, International Branch, ANM-116, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(i) Brazilian airworthiness directives 2006-05-05, effective June 14, 2006, and 2006-05-08, effective June 19, 2006, also address the subject of this AD.

Issued in Renton, Washington, on November 8, 2006.
Kalene C. Yanamura,
Acting Manager, Transport Airplane Directorate, Aircraft Certification Service.

[FR Doc. E6-19532 Filed 11-17-06; 8:45 am]

BILLING CODE 4910-13-P